DEPARTMENT OF COMMERCE

Patent and Trademark Office

[Docket No. PTO-T-2015-0066]

Trademark Public Advisory Committee Public Hearing on the Proposed Trademark Fee Schedule

AGENCY: United States Patent and Trademark Office, Commerce.

ACTION: Notice of Public Hearing.

SUMMARY: Under Section 10 of the America Invents Act (AIA), the United States Patent and Trademark Office (USPTO) may set or adjust by rule any patent or trademark fee established, authorized, or charged under Title 35 of the United States Code or the Trademark Act of 1946, respectively. The USPTO currently is planning to set or adjust trademark fees pursuant to its Section 10 fee setting authority. As part of the rulemaking process to set or adjust trademark fees, the Trademark Public Advisory Committee (TPAC) is required under Section 10 of the AIA to hold a public hearing about any proposed trademark fees, and the USPTO is required to assist TPAC in carrying out that hearing. To that end, the USPTO will make its proposed trademark fees available as set forth in the Supplementary Information section of this Notice before any TPAC hearing and will help the TPAC to notify the public about the hearing. Accordingly, this document announces the dates and logistics for the TPAC public hearing regarding USPTO proposed trademark fees. Interested members of the public are invited to testify at the hearing and/or submit written comments about the proposed trademark fees and the questions posed on the USPTO TPAC Web site page about the proposed fees.

DATES: Public hearing: November 3, 2015.

Comments: For those wishing to submit written comments on the fee proposal that will be published by October 27, 2015, but not requesting an opportunity to testify at the public hearing, the deadline for receipt of those written comments is November 10, 2015.

Oral testimony: Those wishing to present oral testimony at the hearing must request an opportunity to do so in writing no later than October 27, 2015.

Pre-scheduled speakers: Pre-scheduled speakers providing testimony at the hearing should submit a written copy of their testimony for inclusion in the record of the proceedings no later than November 10, 2015.

ADDRESSES: Public hearing: The TPAC will hold a public hearing on November 3, 2015 beginning at 1:30 p.m., Eastern Standard Time (EST), and ending at 3:00 p.m., EST, at the USPTO, Madison Auditorium South, Concourse Level, Madison Building, 600 Dulany Street, Alexandria, Virginia 22314.

Email: Written comments should be sent by email addressed to fee.setting@uspto.gov.

Postal mail: Comments may also be submitted by postal mail addressed to: United States Patent and Trademark Office, Mail Stop CFO, P.O. Box 1450, Alexandria, VA 22313-1450, ATTN: Brendan Hourigan. Although comments may be submitted by postal mail, the USPTO prefers to receive comments via email. Written comments should be identified in the subject line of the email or postal mailing as “Fee Setting.” Because comments will be made available for public inspection, information that is not desired to be made public, such as an address or telephone number should not be included in the comments.

Web cast: The public hearing will be available via Web cast. Information about the Web cast will be posted on the USPTO's Internet Web site (address: www.uspto.gov/about-us/performance-and-planning/fee-setting-and-adjusting) before the public hearing.

Transcripts: Transcript of the hearing will be available on the USPTO Internet Web site (address: www.uspto.gov/about-us/performance-and-planning/fee-setting-and-adjusting) shortly after the hearing.

FOR FURTHER INFORMATION CONTACT: Brendan Hourigan, Office of the Chief Financial Officer, by phone (571) 272-8966, or by email at brendan.hourigan@uspto.gov.

SUPPLEMENTARY INFORMATION: Requests to testify should indicate the following: (1) The name of the person wishing to testify; (2) the person's contact information (telephone number and email address); (3) the organization(s) the person represents, if any; and (4) an indication of the amount of time needed for the testimony. Requests to testify must be submitted by email to Pamela Lloyd at Pamela.Lloyd@uspto.gov. Based upon the requests received, an agenda for witness testimony will be sent to testifying requesters and posted on the USPTO Internet Web site (address: www.uspto.gov/about-us/performance-and-planning/fee-setting-and-adjusting). If time permits, the TPAC may permit unscheduled testimony as well.

Effective September 16, 2011, with the passage of the AIA, the USPTO is authorized under Section 10 of the AIA to set or adjust by rule all patent and trademark fees established, authorized, or charged under Title 35 of the United States Code and the Trademark Act of 1946, respectively. Patent and trademark fees set or adjusted by rule under Section 10 of the AIA may only recover the aggregate estimated costs to the Office for processing, activities, services, and materials relating to patents and trademarks, respectively, including administrative costs of the Office with respect to each as the case may be.

Congress set forth the process for the USPTO to follow in setting or adjusting patent and trademark fees by rule under Section 10 of the AIA. Congress requires the relevant advisory committee to hold a public hearing about the USPTO fee proposals after receiving them from the agency. Congress likewise requires the relevant advisory committee to prepare a written report on the proposed fees and the USPTO to consider the relevant advisory committee's report before finally setting or adjusting the fees. Further, Congress requires the USPTO to publish its proposed fees and supporting rationale in the Federal Register and give the public not less than 45 days in which to submit comments on the proposed change in fees. Finally, Congress requires the USPTO to publish its final rule setting or adjusting fees also in the Federal Register.

Presently, the USPTO is planning to exercise its fee setting authority to set or adjust trademark fees. The USPTO will publish a proposed trademark fee schedule and related supplementary information for public viewing no later than October 27, 2015, on the USPTO Internet Web site (address: www.uspto.gov/about-us/performance-and-planning/fee-setting-and-adjusting). In turn, the TPAC will hold a public hearing about the proposed trademark fee schedule on the date indicated herein. The USPTO will assist the TPAC in holding the hearing by providing resources to organize the hearing and by notifying the public about the hearing, such as through this notice. To gather information from the public about the USPTO's proposed trademark fees, the TPAC will post specific questions for the public's consideration on the TPAC's Internet Web site (address: www.uspto.gov/about/advisory/tpac) after the USPTO publishes its proposed trademark fee schedule. The public may wish to address those questions in its hearing testimony and/or in written comments submitted to TPAC as described herein.

Following the TPAC public hearing, the USPTO will publish a Notice of Proposed Rulemaking in the Federal Register, setting forth its proposed trademark fees. The publication of that Notice will open a comment window through which the public may provide written comments directly to the USPTO. Additional information about public comment to the USPTO will be provided in the USPTO's Notice of Proposed Rulemaking.

Dated: October 14, 2015.
Michelle K. Lee,
Under Secretary of Commerce for Intellectual Property and Director of the United States Patent and Trademark Office.

[FR Doc. 2015-26572 Filed 10-19-15; 8:45 am]

BILLING CODE 3510-16-P